DEPARTMENT OF TRANSPORTATION

Surface Transportation Board

[STB Finance Docket No. 33835]

Penn-Jersey Rail Lines, Inc.—Acquisition and Operation Exemption—Lines in Penn Warner Industrial Park, Falls Township, Bucks County, PA

Penn Jersey Rail Lines, Inc. (PJRL), a Class III rail carrier, has filed a notice of exemption under 49 CFR 1150.41 to acquire, by assignment from Consolidated Rail Corporation, and operate, as a common carrier railroad, line easements in Penn Warner Industrial Park, Falls Township, Bucks County, PA.¹ The line easements are described as approximately a mile in length and beginning at a point located 250 feet +/−in a westerly direction along the centerline of the track from the Point of Switch at Railroad Station 0+00.

¹ In the verified notice of exemption, PJRL states that the line easements are identified as Easements A and B in a deed of easement from the Warner Realty Investment Company to Penn Central Transportation Company, dated December 13, 1973.

The transaction is scheduled to be consummated on or after May 1, 2000.

If the verified notice contains false or misleading information, the exemption is void ab initio. Petitions to revoke the exemption under 49 U.S.C. 10502(d) may be filed at any time. The filing of a petition to revoke does not automatically stay the transaction.

An original and 10 copies of all pleadings, referring to STB Finance Docket No. 33835, must be filed with the Surface Transportation Board, Office of the Secretary, Case Control Unit, 1925 K Street, NW., Washington, DC 20423-0001. In addition, one copy of each pleading must be served on Fritz R. Kahn, Esq., 1920 N Street, NW., Washington, DC 20036-1601.

Board decisions and notices are available on our website at “WWW.STB.DOT.GOV.”

Decided: April 27, 2000.
By the Board, David M. Konschnik, Director, Office of Proceedings.
Vernon A. Williams,
Secretary.

[FR Doc. 00-11182 Filed 5-4-00; 8:45 am]

BILLING CODE 4915-00-P